DEPARTMENT OF ENERGY

Federal Energy Regulatory Commission

Combined Notice of Filings #1

Take notice that the Commission received the following electric rate filings:

Docket Numbers: ER11-4507-010.

Applicants: Canastota Windpower, LLC.

Description: Notice of Non-Material Change in Status of Canastota Windpower, LLC.

Filed Date: 1/29/19.

Accession Number: 20190129-5250.

Comments Due: 5 p.m. ET 2/19/19.

Docket Numbers: ER14-1421-001.

Applicants: Diamond State Generation Partners, LLC.

Description: Compliance filing: Informational Filing Pursuant to Schedule 2 of the PJM OATT & Request for Waiver to be effective N/A.

Filed Date: 1/29/19.

Accession Number: 20190129-5186.

Comments Due: 5 p.m. ET 2/19/19.

Docket Numbers: ER18-1934-001.

Applicants: Alabama Power Company.

Description: Compliance filing: OATT Compliance Filing (Relating to Sale of Gulf Power) to be effective 1/1/2019.

Filed Date: 1/30/19.

Accession Number: 20190130-5084.

Comments Due: 5 p.m. ET 2/20/19.

Docket Numbers: ER18-1938-001.

Applicants: Alabama Power Company.

Description: Compliance filing: Transmission Facility Cost Allocation Tariff Compliance Filing to be effective 1/1/2019.

Filed Date: 1/30/19.

Accession Number: 20190130-5085.

Comments Due: 5 p.m. ET 2/20/19.

Docket Numbers: ER19-256-002.

Applicants: Wisconsin Power and Light Company.

Description: Tariff Amendment: Amendment to WPL Wholesale Formula Rate Application to be effective 12/31/2018.

Filed Date: 1/29/19.

Accession Number: 20190129-5209.

Comments Due: 5 p.m. ET 2/19/19.

Docket Numbers: ER19-257-002.

Applicants: Interstate Power and Light Company.

Description: Tariff Amendment: Amendment to IPL Wholesale Formula Rate Application to be effective 12/31/2018.

Filed Date: 1/29/19.

Accession Number: 20190129-5212.

Comments Due: 5 p.m. ET 2/19/19.

Docket Numbers: ER19-361-000.

Applicants: Midcontinent Independent System Operator, Inc., International Transmission Company, Michigan Electric Transmission Company, LLC, ITC Midwest LLC.

Description: Report Filing: 2019-01-29_Refund Report for ITC Companies re Transco Adder (EL18-140) to be effective N/A.

Filed Date: 1/29/19.

Accession Number: 20190129-5163.

Comments Due: 5 p.m. ET 2/19/19.

Docket Numbers: ER19-541-001.

Applicants: ITC Midwest LLC.

Description: Tariff Amendment: Amendment to Filing of JUA with Jo-Carroll Energy to be effective 2/11/2019.

Filed Date: 1/29/19.

Accession Number: 20190129-5201.

Comments Due: 5 p.m. ET 2/19/19.

Docket Numbers: ER19-846-000.

Applicants: Antelope DSR 3, LLC.

Description: Supplement to January 22, 2019 Antelope DSR 3, LLC tariff filing.

Filed Date: 1/29/19.

Accession Number: 20190129-5239.

Comments Due: 5 p.m. ET 2/12/19.

Docket Numbers: ER19-847-000.

Applicants: San Pablo Raceway, LLC.

Description: Supplement to January 22, 2019 San Pablo Raceway, LLC tariff filing.

Filed Date: 1/29/19.

Accession Number: 20190129-5243.

Comments Due: 5 p.m. ET 2/12/19.

Docket Numbers: ER19-884-000.

Applicants: Alabama Power Company.

Description: § 205(d) Rate Filing: DEC-SoCo Amended and Restated Interconnection Contract Filing to be effective 1/1/2019.

Filed Date: 1/29/19.

Accession Number: 20190129-5137.

Comments Due: 5 p.m. ET 2/19/19.

Docket Numbers: ER19-886-000.

Applicants: Alabama Power Company.

Description: § 205(d) Rate Filing: DEF-SoCo Amended and Restated Interconnection Contract Filing to be effective 1/1/2019.

Filed Date: 1/29/19.

Accession Number: 20190129-5139.

Comments Due: 5 p.m. ET 2/19/19.

Docket Numbers: ER19-887-000.

Applicants: Alabama Power Company.

Description: § 205(d) Rate Filing: Filing of Interchange Contract Amendments (to remove Gulf) to be effective 1/1/2019.

Filed Date: 1/29/19.

Accession Number: 20190129-5141.

Comments Due: 5 p.m. ET 2/19/19.

Docket Numbers: ER19-888-000.

Applicants: Alabama Power Company.

Description: § 205(d) Rate Filing: Filing of NITSA Amendments (to remove Gulf) to be effective 1/1/2019.

Filed Date: 1/29/19.

Accession Number: 20190129-5143.

Comments Due: 5 p.m. ET 2/19/19.

Docket Numbers: ER19-889-000.

Applicants: Alabama Power Company.

Description: Tariff Cancellation: FPU NITSA Termination Filing to be effective 1/1/2019.

Filed Date: 1/29/19.

Accession Number: 20190129-5144.

Comments Due: 5 p.m. ET 2/19/19.

Docket Numbers: ER19-890-000.

Applicants: Alabama Power Company.

Description: § 205(d) Rate Filing: PowerSouth Long-Term Firm PTP Agreement Filing to be effective 1/1/2019.

Filed Date: 1/29/19.

Accession Number: 20190129-5146.

Comments Due: 5 p.m. ET 2/19/19.

Docket Numbers: ER19-891-000.

Applicants: Alabama Power Company.

Description: § 205(d) Rate Filing: PowerSouth NITSA 2019 Rollover Filing to be effective 1/1/2019.

Filed Date: 1/29/19.

Accession Number: 20190129-5150.

Comments Due: 5 p.m. ET 2/19/19.

Docket Numbers: ER19-892-000.

Applicants: Alabama Power Company.

Description: § 205(d) Rate Filing: PowerSouth Amended and Restated NITSA Filing to be effective 1/1/2019.

Filed Date: 1/29/19.

Accession Number: 20190129-5154.

Comments Due: 5 p.m. ET 2/19/19.

Docket Numbers: ER19-893-000.

Applicants: Alabama Power Company.

Description: § 205(d) Rate Filing: SEPA Network Agreement Amendment Filing (Revision Nos. 5 & 6) to be effective 1/1/2019.

Filed Date: 1/29/19.

Accession Number: 20190129-5159.

Comments Due: 5 p.m. ET 2/19/19.

Docket Numbers: ER19-894-000.

Applicants: Black Hills Colorado Electric, LLC.

Description: § 205(d) Rate Filing: Notice of Succession (OATT) to be effective 12/31/2018.

Filed Date: 1/29/19.

Accession Number: 20190129-5165.

Comments Due: 5 p.m. ET 2/19/19.

Docket Numbers: ER19-895-000.

Applicants: Black Hills Colorado Electric, LLC.

Description: § 205(d) Rate Filing: Notice of Succession (WestConnect Point-to-Point) to be effective 12/31/2018.

Filed Date: 1/29/19.

Accession Number: 20190129-5166.

Comments Due: 5 p.m. ET 2/19/19.

Docket Numbers: ER19-896-000.

Applicants: Black Hills Colorado Electric, LLC.

Description: § 205(d) Rate Filing: Notice of Succession (Agreements and Rate Schedules) to be effective 12/31/2018.

Filed Date: 1/29/19.

Accession Number: 20190129-5167.

Comments Due: 5 p.m. ET 2/19/19.

Docket Numbers: ER19-897-000.

Applicants: Public Service Company of Colorado.

Description: § 205(d) Rate Filing: 20190129 Joint Dispatch Agreement_Black Hills Name Change to be effective 12/31/2018.

Filed Date: 1/29/19.

Accession Number: 20190129-5168.

Comments Due: 5 p.m. ET 2/19/19.

Docket Numbers: ER19-898-000.

Applicants: Midcontinent Independent System Operator, Inc., Alliant Energy Corporate Services, Inc.

Description: § 205(d) Rate Filing: 2019-01-29_SA 2605 Termination of IPL-City of Guttenberg DAFC to be effective 3/31/2019.

Filed Date: 1/29/19.

Accession Number: 20190129-5171.

Comments Due: 5 p.m. ET 2/19/19.

Docket Numbers: ER19-899-000.

Applicants: Midcontinent Independent System Operator, Inc., Alliant Energy Corporate Services, Inc.

Description: § 205(d) Rate Filing: 2019-01-29_SA 2604 IPL-City of Guttenberg 1st Rev IFA to be effective 3/31/2019.

Filed Date: 1/29/19.

Accession Number: 20190129-5198.

Comments Due: 5 p.m. ET 2/19/19.

Docket Numbers: ER19-900-000.

Applicants: Pacific Gas and Electric Company.

Description: § 205(d) Rate Filing: Amendment to Engineering and Permitting Agrmt with CA High Speed Rail (RS 247) to be effective 1/30/2019.

Filed Date: 1/29/19.

Accession Number: 20190129-5202.

Comments Due: 5 p.m. ET 2/19/19.

Docket Numbers: ER19-901-000.

Applicants: PJM Interconnection, L.L.C.

Description: Tariff Cancellation: Notice of Cancellation of WMPA SA No. 4184; Queue No. Z2-106 to be effective 12/10/2018.

Filed Date: 1/29/19.

Accession Number: 20190129-5207.

Comments Due: 5 p.m. ET 2/19/19.

Docket Numbers: ER19-902-000.

Applicants: Valcour Wind Energy, LLC.

Description: Baseline eTariff Filing: MBR Application to be effective 3/15/2019.

Filed Date: 1/29/19.

Accession Number: 20190129-5214.

Comments Due: 5 p.m. ET 2/19/19.

Docket Numbers: ER19-903-000.

Applicants: Midcontinent Independent System Operator, Inc., Alliant Energy Corporate Services, Inc.

Description: § 205(d) Rate Filing: 2019-01-29_SA 2636 IPL-RPGI 1st Rev DAFC to be effective 3/31/2019.

Filed Date: 1/29/19.

Accession Number: 20190129-5215.

Comments Due: 5 p.m. ET 2/19/19.

Docket Numbers: ER19-904-000.

Applicants: Mulberry Farm, LLC.

Description: Compliance filing: Compliance Filing—Category 2 Seller to be effective 3/30/2019.

Filed Date: 1/30/19.

Accession Number: 20190130-5001.

Comments Due: 5 p.m. ET 2/20/19.

Docket Numbers: ER19-905-000.

Applicants: Alabama Power Company.

Description: § 205(d) Rate Filing: Southern Power (Franklin 3) LGIA Amendment Filing to be effective 1/1/2019.

Filed Date: 1/30/19.

Accession Number: 20190130-5006.

Comments Due: 5 p.m. ET 2/20/19.

Docket Numbers: ER19-906-000.

Applicants: Alabama Power Company.

Description: § 205(d) Rate Filing: LGIA Amendments Filing #1 (to Remove Gulf) to be effective 1/1/2019.

Filed Date: 1/30/19.

Accession Number: 20190130-5007.

Comments Due: 5 p.m. ET 2/20/19.

Docket Numbers: ER19-907-000.

Applicants: Alabama Power Company.

Description: § 205(d) Rate Filing: LGIA Amendments Filing #2 (to Remove Gulf) to be effective 1/1/2019.

Filed Date: 1/30/19.

Accession Number: 20190130-5008.

Comments Due: 5 p.m. ET 2/20/19.

Docket Numbers: ER19-908-000.

Applicants: Alabama Power Company.

Description: § 205(d) Rate Filing: LGIA Amendments Filing #3 (to Remove Gulf) to be effective 1/1/2019.

Filed Date: 1/30/19.

Accession Number: 20190130-5009.

Comments Due: 5 p.m. ET 2/20/19.

Docket Numbers: ER19-909-000.

Applicants: Georgia Power Company, Alabama Power Company, Mississippi Power Company.

Description: Notice of Cancellation of Umbrella Service Agreements of Alabama Power Company, et al.

Filed Date: 1/29/19.

Accession Number: 20190129-5240.

Comments Due: 5 p.m. ET 2/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2019.
Kimberly D. Bose,
Secretary.

[FR Doc. 2019-01151 Filed 2-5-19; 8:45 am]

BILLING CODE 6717-01-P